DEPARTMENT OF HEALTH AND HUMAN SERVICES

Centers for Disease Control and Prevention

[30Day-05-0437X]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 371-5983 or send an e-mail to omb@cdc.gov. Send written comments to CDC Desk Officer, Office of Management and Budget, Washington, DC or by fax to (202) 395-6974. Written comments should be received within 30 days of this notice.

Proposed Project

Program Evaluation and Monitoring System (PEMS)—New—National Center for HIV, STD, and TB Prevention (NCHSTP), Centers for Disease Control and Prevention (CDC).

Background and Brief Description

CDC is requesting OMB approval of this data collection to collection HIV prevention evaluation data from health departments and directly funded community-based organizations (CBOs). The proposed data collection will incorporate data elements from three other OMB-approved data collections: Evaluating CDC Funded Health Department HIV Prevention Programs (OMB Control No. 0920-0497, expiration date 4/30/2006); Assessing the Effectiveness of CBOs for the Delivery of HIV Prevention Programs (OMB Control No. 0920-0525, expiration date 10/31/2004); and HIV/AIDS Prevention and Surveillance Project Reports for counseling, testing, and referral (CTR) (OMB Control No. 0920-0208, expiration date 10/31/2005).

CDC needs non-identifying, client-level, standardized evaluation data from health departments and CBO grantees to: (1) More accurately determine the extent to which HIV prevention efforts have been carried out by assessing what types of agencies are providing services, what resources are allocated to those services, to whom services are being provided, and how these efforts have contributed to a reduction in HIV transmission; (2) improve ease of reporting to better meet that goal; and (3) be accountable to stakeholders by informing them of efforts made and use of funds in HIV prevention nationwide.

Although CDC receives evaluation data from grantees, the data received to date is insufficient for evaluation and accountability. Furthermore, there has not been standardization of required evaluation data from both health departments and CBOs. Changes to the evaluation and reporting process have become necessary to ensure CDC receives standardized, accurate, thorough evaluation data from both health departments and CBOs. For these reasons, CDC developed PEMS and consulted with representatives from health departments, CBOs, and the National Alliance of State and Territorial AIDS Directors during development of PEMS.

Respondents will report general agency information, program model and budget; intervention plan and delivery characteristics; and client demographics and behavioral characteristics. After initial set-up of the PEMS, data collection will include searching existing data sources, gathering and maintaining data, document compilation, review of data, and data entry into a Web-based system. Respondents will submit data quarterly. Respondents may choose one of the three options to enter and submit the required PEMS data variables: (1) Use the PEMS software provided and installed by CDC at no cost to the respondent; (2) revise their own existing HIV prevention information technology system and use the import-export data transfer process in PEMS; or (3) deploy PEMS locally, within the respondent facility using equipment purchased by the respondents. In addition, respondents may choose to utilize the optional CDC scan form for the data collection. If the respondent chooses the scan form, the annual cost to respondents is approximately $1,700 for the purchase of a scanner and scanning software. The total estimated annualized burden hours are 122,172.

Respondents | Number of respondents | Number of responses per respondent | Average burden per response (in hours)
Health Departments | 59 | 4 | 137
Health Departments (CTR) | 30 | 4 | 174
Health Departments (Training) | 59 | 4 | 10
Community-Based Organizations | 160 | 4 | 84
Community-Based Organizations (CTR) | 70 | 4 | 23
Community-Based Organizations (Training) | 160 | 4 | 10

Dated: July 21, 2005.
Betsey Dunaway,
Acting Reports Clearance Officer, Centers for Disease Control and Prevention.

[FR Doc. 05-14788 Filed 7-26-05; 8:45 am]

BILLING CODE 4163-18-P